DEPARTMENT OF LABOR

Employment and Training Administration

[TA-W-91,248]

Exal Corporation, Including On-Site Leased Workers from Alliance Industrial Solutions and Ryan Alternative Staffing, Youngstown, Ohio; Notice of Affirmative Determination Regarding Application for Reconsideration

By application dated June 22, 2016, the state workforce office requested administrative reconsideration of the negative determination regarding workers' eligibility to apply for worker adjustment assistance applicable to workers and former workers of Exal Corporation, including on-site leased workers from Alliance Industrial Solutions and Ryan Alternative Staffing, Youngstown, Ohio. The determination was issued on May 26, 2016 and the Notice of Determination was published in the Federal Register on June 28, 2016 (81 FR 42000).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that there was no increase in imports by the workers' firm or its customers, nor was there a foreign shift or acquisition by the workers' firm or its customers. In addition, neither the workers' firm nor its customers reported imports of articles like or directly competitive with articles for which the article produced by the workers' firm were directly incorporated.

The request for reconsideration asserts that the subject firm and customer continues to import from a foreign location like or directly competitive articles while decreasing articles produced within the United States. The request for reconsideration included new facts.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 5th day of July, 2016.
Hope D. Kinglock,
Certifying Officer, Office of Trade Adjustment Assistance.

[FR Doc. 2016-20046 Filed 8-22-16; 8:45 am]

BILLING CODE P